DEPARTMENT OF VETERANS AFFAIRS

38 CFR Parts 19 and 20

RIN 2900-AL96

Board of Veterans' Appeals: Appeals Regulations, Rules of Practice; Delegations of Authority

AGENCY: Department of Veterans Affairs.

ACTION: Final rule.

SUMMARY: This document amends the Department of Veterans Affairs (VA), Board of Veterans' Appeals (Board) Appeals Regulations and Rules of Practice. The amendments update regulations governing certain delegations of authority exercised by the Chairman of the Board. The amendments reflect statutory changes and changes to other regulations made because of the statutory changes.

DATES: Effective Date: February 24, 2005.

FOR FURTHER INFORMATION CONTACT: Steven L. Keller, Senior Deputy Vice Chairman, Board of Veterans' Appeals, Department of Veterans Affairs, 810 Vermont Avenue, NW., Washington, DC 20420, telephone 202-565-5978.

SUPPLEMENTARY INFORMATION: The Board of Veterans' Appeals (Board) is the component of the Department of Veterans Affairs, in Washington, DC, that decides appeals from denials of claims for veterans' benefits. The Board is under the administrative control and supervision of a Chairman directly responsible to the Secretary of Veterans Affairs. 38 U.S.C. 7101. This document amends the Board's Appeals Regulations and Rules of Practice concerning delegations of authority exercised by the Chairman.

Under 38 CFR 19.14 and 20.102, certain authorities exercised by the Chairman of the Board are delegated to certain other employees of the Board. The sources of these authorities are 38 U.S.C. 7101(a), 7102, 7103, and 7104.

In 1994, 38 U.S.C. 7102 was amended to authorize the deciding of appeals by individual Board members, as well as by panels of at least three Board members. The amendment also prohibited a proceeding before the Board from being assigned to the Chairman as an individual member. Board of Veterans' Appeals Administrative Procedures Improvement Act of 1994, Public Law 103-271, § 6(a), 108 Stat. 740, 741. In May 1996, the Secretary amended the Board's Appeals Regulations and Rules of Practice to incorporate these statutory changes. See 61 FR 20447, May 7, 1996. However, certain provisions governing the Chairman's delegation of authority in the appeals regulations and rules of practice were not amended to reflect the statutory and regulatory changes. Therefore, we are now amending 38 CFR 19.14 and 20.102 to reflect those prior statutory and regulatory changes.

The 1996 rulemaking included amendments to 38 CFR 19.3, 19.11, 20.606, 20.608, and 20.900. The amendments reflected, in addition to the statutory amendments, administrative changes in the Board's organization from sections to teams. The versions of 38 CFR 19.14 and 20.102 in effect until February 24, 2005, refer to paragraphs in the previously amended regulations that were removed, redesignated, or revised by the 1996 rulemaking.

We are removing references to § 19.3(c) and (d) from 38 CFR 19.14 because the 1996 amendments revised § 19.3 so that it has no paragraph (c) or (d).

We are also removing paragraph (a) of 38 CFR 20.102 and redesignating paragraphs (b) and (c) of § 20.102 as paragraphs (a) and (b), respectively. The provisions of paragraph (a) of 38 CFR 20.102 in effect until February 24, 2005 permitted the Vice Chairman of the Board to exercise the same authority the Chairman may exercise under 38 CFR 20.900(c). However, § 20.900(c), itself authorizes the Vice Chairman to exercise that authority as well as to delegate such authority to a Deputy Vice Chairman. Therefore, paragraph (a) of § 20.102 is not necessary.

In addition, we are removing the references to Rule 608(b) and § 20.608(b) from § 20.102(b). The provisions of paragraph (b) of § 20.102 in effect until February 24, 2005, permitted the Vice Chairman of the Board and the Deputy Vice Chairmen to exercise the same authority the Chairman may exercise under 38 CFR 20.608(b). However, the 1996 amendments removed that authority from § 20.608(b) to conform with the statutory amendments. Therefore, the references in § 20.102(b) to Rule 608(b) and § 20.608(b) are inappropriate.

Finally, in 38 CFR 20.102(c), we are replacing the references to Rule 606(e) and § 20.606(e) with references to Rule 606(d) and § 20.606(d). The provisions of paragraph (c) of § 20.102 in effect until February 24, 2005 permitted the Vice Chairman of the Board, the Deputy Vice Chairmen, or members of the Board to exercise the same authority the Chairman may exercise under 38 CFR 20.606(e). However, that authority is now in § 20.606(d). Thus, a reference to paragraph (d) instead of paragraph (e) is the appropriate reference.

Administrative Procedure Act

Because this final rule concerns agency organization, procedure, or practice, pursuant to 5 U.S.C. 553(b), it is exempt from notice and comment requirements. Further, we have concluded that, because this final rule only brings 38 CFR 19.14 and 20.102 into conformity with existing regulations in Parts 19 and 20 of title 38, there is good cause for dispensing with a delayed effective date as unnecessary.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This final rule would have no such effect on State, local, or tribal governments, or the private sector.

Paperwork Reduction Act

This document contains no provisions constituting a new collection of information under the Paperwork Reduction Act (44 U.S.C. 3501-3521).

Regulatory Flexibility Act

Because this final rule is not a “rule” as defined in 5 U.S.C. 601(2), it is not subject to the Regulatory Flexibility Act, 5 U.S.C. 601-612. Nevertheless, the Secretary hereby certifies that this final rule will not have a significant economic impact on a substantial number of small entities as they are defined in the Regulatory Flexibility Act, 5 U.S.C. 601-612. The changes made by this rule will not have a significant economic impact on any small entities. Therefore, pursuant to 5 U.S.C. 605(b), this final rule is exempt from the initial and final regulatory flexibility analysis requirements of sections 603 and 604.

List of Subjects in 38 CFR Parts 19 and 20

Administrative practice and procedure, Claims, Veterans.

Approved: January 26, 2005.
Anthony J. Principi,
Secretary of Veterans Affairs.

For the reasons set forth in the preamble, 38 CFR parts 19 and 20 are amended as follows:

PART 19—BOARD OF VETERANS' APPEALS: APPEALS REGULATIONS

1. The authority citation for part 19 continues to read as follows:

Authority: 38 U.S.C. 501(a), unless otherwise noted.

§ 19.14 [Amended]

2. Section 19.14 is amended by:

a. Removing “, 19.3(c),” from paragraph (a); and

b. Removing “§ 19.3(d) and” from paragraph (b).

PART 20—BOARD OF VETERANS' APPEALS: RULES OF PRACTICE

3. The authority citation for part 20 continues to read as follows:

Authority: 38 U.S.C. 501(a) and as noted in specific sections.

§ 20.102 [Amended]

4. Section 20.102 is amended by:

a. Removing paragraph (a);

b. Redesignating paragraphs (b) and (c) as paragraphs (a) and (b), respectively;

c. Removing “608(b),”, “20.608(b),” and the commas after “717(d)” and “20.717(d)” from newly designated paragraph (a);

d. Removing “606(e)” and “20.606(e)” from newly designated paragraph (b) and adding, in their places, “606(d)” and “20.606(d)”, respectively.

[FR Doc. 05-3498 Filed 2-23-05; 8:45 am]

BILLING CODE 8320-01-U